DEPARTMENT OF DEFENSE

Defense Acquisition Regulations System

48 CFR Parts 202, 203, 212, and 252

[DFARS Case 2009-D015]

RIN 0750-AG63

Defense Federal Acquisition Regulation Supplement; Organizational Conflicts of Interest in Major Defense Acquisition Programs

AGENCY: Defense Acquisition Regulations System, Department of Defense (DoD).

ACTION: Proposed rule with request for comments; extension of comment period.

SUMMARY: DoD is proposing to amend the Defense Federal Acquisition Regulation Supplement (DFARS) to implement section 207 of the Weapons System Acquisition Reform Act of 2009. The comment period is being extended an additional 30 days to provide additional time for interested parties to review the proposed DFARS changes.

DATES: Comments on the proposed rule should be submitted in writing to the address shown below on or before July 21, 2010, to be considered in the formation of the final rule.

ADDRESSES: You may submit comments, identified by DFARS Case 2009-D015, using any of the following methods:

Federal eRulemaking Portal: http://www.regulations.gov. Follow the instructions for submitting comments.

E-mail: dfars@osd.mil. Include DFARS Case 2009-D015 in the subject line of the message.

Fax: 703-602-0350.

Mail: Defense Acquisition Regulations System, Attn: Ms. Amy Williams, OUSD (AT&L) DPAP (DARS), 3060 Defense Pentagon, Room 3B855, Washington, DC 20301-3060.

Comments received generally will be posted without change to http://www.regulations.gov, including any personal information provided.

FOR FURTHER INFORMATION CONTACT: Ms. Amy Williams, 703-602-0328.

SUPPLEMENTARY INFORMATION:

A. Background

DoD published a proposed rule in the Federal Register on April 22, 2010 (75 FR 20954), with a request for comment by June 21, 2010. DoD is extending the comment period for 30 additional days to provide an additional time for interested parties to review the proposed DFARS changes.

Ynette R. Shelkin,
Editor, Defense Acquisition Regulations System.

[FR Doc. 2010-14392 Filed 6-14-10; 8:45 am]

BILLING CODE 5001-08-P